DEPARTMENT OF HOMELAND SECURITY

Bureau of Customs and Border Protection

Agency Information Collection Activities: Proposed Collection; Comment Request

ACTION: 60-day notice of information collection under review; Visa Waiver Program Carrier Agreement; Form I-775.

The Department of Homeland Security (DHS), and the Bureau of Immigration and Customs Services (ICE) has submitted the following information collection request for review and clearance in accordance with the Paperwork Reduction Act of 1995. The proposed information collection is published to obtain comments from the public and affected agencies. Comments are encouraged and will be accepted for sixty days until August 25, 2003.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarify of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Visa Waiver Program Carrier Agreement.

(3) Agency form number, if any, and the applicable component of the Department of Justice sponsoring the collection: Form I-775, Bureau of Customs and Border Protection.

(4) Affected public who will be asked or required to respond, as well as a brief abstract: Primary: Business or other for-profit. The agreement between a transportation company and the United States is needed to ensure that the transportation company will remain responsible for the aliens it transports to the United States under the Visa Waiver Program.

(5) An estimate of the total number of respondents and the amount of time estimated for an average respondent to respond: 50 responses at 1 hour per response.

(6) An estimate of the total public burden (in hours) associated with the collection: 50 annual burden hours.

If you have additional comments, suggestions, or need a copy of the proposed information collection instrument with instructions, or additional information, please contact Richard A. Sloan 202-514-3291, Director, Regulations and Forms Services Division, U.S. Department of Homeland Security, Room 4034, 415 I Street, NW., Washington, DC 20536. Additionally, comments and/or suggestions regarding the item(s) contained in this notice, especially regarding the estimated public burden and associated response time may also be directed to Mr. Richard A. Sloan.

If additional information is required contact: Mr. Robert B. Briggs, Clearance Officer, United States Department of Homeland Security, 1800 G Street, NW., 10th Floor, NW., Washington, DC 20530.

Dated: June 12, 2003
Richard A. Sloan,
Department Clearance Officer, United States Department of Justice, Bureau of Immigration and Customs Enforcement.

[FR Doc. 03-16135 Filed 6-25-03; 8:45 am]

BILLING CODE 4410-10-M